FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
017712N | Awell Logistics Group, Inc., 655 John Muir Drive, #E421, San Francisco, CA 94132 | May 6, 2009.
004084N | Glory Express, Inc., 17420 S. Avalon Blvd., Suite 202, Carson, CA 90746 | May 22, 2009.
013172N | Yung Hoon Kim dba Conex International, 20695 So. Western Ave., Suite 136, Torrance, CA 90501 | April 10, 2009.
016706N | Inter-Trade Liner Shipping Co., Inc., 2111 W. Crescent Ave., Suite E, Anaheim, CA 92801 | June 5, 2009.
018694N | Global Parcel System LLC, 8304 Northwest 30th Terrace, Miami, FL 33122 | April 11, 2009.
002355F | Pro-Service Forwarding Co., Inc., 901 W. Hillcrest Boulevard, Inglewood, CA 90301 | March 6, 2009.
021444N | J & V International Shipping Corp., 806 Arcadia Ave., Ste. 4, Arcadia, CA 91007 | June 5, 2009.

Sandra L. Kusumoto,
Director, Bureau of Certification and Licensing.

[FR Doc. E9-16104 Filed 7-7-09; 8:45 am]

BILLING CODE P